DEPARTMENT OF TRANSPORTATION

Office of the Secretary

[Docket No. DOT-OST-2018-0190]

Aviation Consumer Protection Advisory Committee; Notice of Public Meeting

AGENCY: Office of the Secretary (OST), Department of Transportation (DOT).

ACTION: Notice of public meeting.

SUMMARY: This Notice announces a one-day public meeting of the Aviation Consumer Protection Advisory Committee (ACPAC), to be held virtually. The ACPAC will deliberate on the Department's notice of proposed rulemaking (NPRM) on Enhancing Transparency of Airline Ancillary Service Fees; and will vote on recommendations regarding the Department's NPRM on Airline Ticket Refunds and Consumer Protections.

DATES: The virtual meeting will be held on, January 12, 2023, from 10:00 a.m. to 5:30 p.m. Eastern Standard Time. The meeting is open to the public, subject to any technical and/or capacity limitations. Requests to attend the meeting must be submitted to https://usdot.zoomgov.com/webinar/register/WN_Eoow5BMfRTum03htlms2bQ. We encourage interested parties to register by January 5, 2023. Communication Access Real-time Translation (CART) and sign language interpretation will be provided during the meeting. Requests for additional accommodations because of a disability must be received at ACPAC@dot.gov by January 5, 2023.

ADDRESSES: The virtual meeting will be open to the public and held via the Zoom Webinar Platform. Virtual attendance information will be provided upon registration. An agenda will be available on the Department's Office of Aviation Consumer Protection website at https://www.transportation.gov/airconsumer/ACPAC in advance of the meeting.

FOR FURTHER INFORMATION CONTACT: To register and attend this virtual meeting, please use the link: https://usdot.zoomgov.com/webinar/register/WN_Eoow5BMfRTum03htlms2bQ.

Attendance is open to the public subject to any technical and/or capacity limitations. For further information, please contact Cristina Draguta, Attorney-Advisor, by email at Cristina.Draguta@dot.gov.

SUPPLEMENTARY INFORMATION:

I. Background

The ACPAC evaluates the Department of Transportation's aviation consumer protection programs, provides recommendations to the Secretary for improving them and recommends any additional consumer protections that may be needed.

During the June 28, 2022, meeting of the ACPAC, the subject of transparency of airline ancillary service fees was considered as members heard presentations about previous Department actions in this area and the perspectives of various stakeholders. On September 26, 2022, the Department announced the Enhancing Transparency of Airline Ancillary Service Fees NPRM (RIN 2105-AF10) (Ancillary Fees Transparency NPRM) and made the rulemaking available on its website and regulations.gov. On December 8, 2022, the ACPAC continued the discussion on this topic, heard from the public, and considered the proposals in the Department's NPRM. The Department is now scheduling a meeting to provide the ACPAC further opportunity to discuss, deliberate, and decide on recommendations, if any, to the Department regarding the Department's Ancillary Fees Transparency NPRM.

Also, on December 9, 2022, the ACPAC deliberated on the Department's Airline Ticket Refunds and Consumer Protections NPRM and decided to vote on the recommendations to the Department once the Ticket Refunds NPRM comment period closes on December 16, 2022. As such, at this meeting, the ACPAC will also vote on recommendations regarding the Department's Airline Ticket Refunds and Consumer Protections NPRM. More information regarding prior meetings, including recordings of meetings, can be found on the ACPAC web pages available here: https://www.transportation.gov/airconsumer/ACPAC.

II. Agenda

During the January 12, 2023, meeting, the ACPAC will deliberate and decide on recommendations, if any, to the Department regarding airline ancillary service fee transparency. Pursuant to 49 U.S.C. 41712, which prohibits U.S. air carriers, foreign air carriers, and ticket agents from engaging in unfair or deceptive practices in the sale of air transportation, the Department's Ancillary Fees Transparency NPRM proposes to require carriers and ticket agents to clearly disclose baggage fees, change fees, and cancellation fees to consumers whenever fare and schedule information is provided to consumers for flights to, within, and from the United States. The Ancillary Fees Transparency NPRM also proposes to require these entities to clearly disclose, whenever fare and schedule information is provided, the fees for adjacent seating, if any, to consumers traveling with young children on flights to, within, and from the United States, and make these fees transactable. The Department is proposing that all of these disclosures be provided on a passenger-specific or itinerary-specific basis. The Department is also proposing to require that carriers provide useable, current, and accurate information regarding these fees to ticket agents that sell or display the carrier's fare and schedule information.

In addition, the ACPAC will vote on the recommendations to the Department made by the Members during December 8, 2022, meeting regarding the Department's Airline Ticket Refunds and Consumer Protections NPRM. More information regarding prior meetings, including recordings of meetings, can be found on the ACPAC web pages available here: https://www.transportation.gov/airconsumer/ACPAC.

III. Public Participation

The January 12, 2023, the meeting will begin at 10:00 a.m. EST, and the Committee members will deliberate and decide on recommendations, if any, to make to the Department on Ancillary Fees Transparency NPRM. The ACPAC will also vote on recommendations regarding the Department's NPRM on Airline Ticket Refunds and Consumer Protections. At the January 12, 2023, ACPAC meeting, the members of the public will be able to observe deliberations and voting by ACPAC on the topics mentioned above. However, there will not be an opportunity to make oral comments. Members of the public may submit written comments for the ACPAC consideration electronically to the ACPAC Docket (DOT-OST-2018-0190) any time before the meeting.

IV. Viewing Documents

Documents associated with the ACPAC maybe be accessed in the ACPAC Docket (DOT-OST-2018-0190). Documents associated with the NPRM on Enhancing Transparency of Airline Ancillary Service Fees may be accessed in the rulemaking Docket (DOT-OST-2022-0109). Documents associated with the NPRM on Airline Ticket Refunds and Consumer Protections may be accessed in the rulemaking Docket (DOT-OST-2022-0089). Dockets may be accessed at https://www.regulations.gov. After entering the relevant docket number click the link to “Open Docket Folder” and choose the document to review.

Signed in Washington, DC.
John E. Putnam,
General Counsel.

[FR Doc. 2022-28099 Filed 12-23-22; 8:45 am]

BILLING CODE 4910-9X-P